NATIONAL AERONAUTICS AND SPACE ADMINISTRATION

[Notice 03-017]

Government-Owned Inventions, Available for Licensing

ACTION: Notice of availability of inventions for licensing.

SUMMARY: The inventions listed below are assigned to the National Aeronautics and Space Administration, have been filed in the United States Patent and Trademark Office, and are available for licensing.

DATES: February 26, 2003.

FOR FURTHER INFORMATION CONTACT: Rob Padilla, Patent Counsel, Ames Research Center, Mail Code 202A-4, Moffett Field, CA 94035-1000; telephone (650) 604-5104, fax (650) 604-2767.

NASA Case No. ARC-14650-1: Diffraction-Based Optical Correlator;

NASA Case No. ARC-14661-1: A Plasma Apparatus And Process For Functionalization Of Carbon Nanotubes.

Dated: February 19, 2003.
Robert M. Stephens,
Deputy General Counsel.

[FR Doc. 03-4430 Filed 2-25-03; 8:45 am]

BILLING CODE 7510-01-P